DEPARTMENT OF HEALTH AND HUMAN SERVICES

Office of the National Coordinator for Health Information Technology; HIT Policy Committee's Privacy & Security Tiger Team Meeting; Notice of Meeting

AGENCY: Office of the National Coordinator for Health Information Technology, HHS.

ACTION: Notice of meeting.

This notice announces a forthcoming subcommittee meeting of a Federal advisory committee of the Office of the National Coordinator for Health Information Technology (ONC). The meeting will be open to the public.

Name of Committee: HIT Policy Committee's Privacy & Security Tiger Team.

General Function of the Committee: To provide recommendations to the National Coordinator on a policy framework for the development and adoption of a nationwide health information technology infrastructure that permits the electronic exchange and use of health information as is consistent with the Federal Health IT Strategic Plan and that includes recommendations on the areas in which standards, implementation specifications, and certification criteria are needed.

Date and Time: The meeting will be held on June 29, 2010, from 8 a.m. to 5:15 p.m./Eastern Time.

Location: Grand Hyatt Washington Hotel, 1000 H Street, NW., Washington, DC 20001 (telephone: 202-582-1234). Please check the ONC Web site, http://healthit.hhs.gov, for additional information as it becomes available, instructions on how to listen via telephone or Web, and viewing a video recording of the event which will be available following the meeting.

Contact Person: Judy Sparrow, Office of the National Coordinator, HHS, 330 C Street, SW., Washington, DC 20201, 202-205-4528, Fax: 202-690-6079, e-mail: judy.sparrow@hhs.gov. Please call the contact person for up-to-date information on this meeting. A notice in the Federal Register about last minute modifications that impact a previously announced advisory committee meeting cannot always be published quickly enough to provide timely notice.

Agenda: The workgroup will be discussing technologies that enable consumer choice for sharing their information in health information exchange. The workgroup will be hearing testimony from current users of such technologies, developers of “cutting edge” technologies that may be useful in the clinical care setting in the future, as well as stakeholder groups. ONC intends to make background material available to the public no later than two (2) business days prior to the meeting. If ONC is unable to post the background material on its Web site prior to the meeting, it will be made publicly available at the location of the advisory committee meeting, and the background material will be posted on ONC's Web site after the meeting, at http://healthit.hhs.gov.

Procedure: Interested persons may present data, information, or views, orally or in writing, on issues pending before the committee. Written submissions may be made to the contact person on or before June 23, 2010. Oral comments from the public will be scheduled between approximately 5 p.m. and 5:15 p.m./Eastern Time. Time allotted for each presentation will be limited to three minutes. If the number of speakers requesting to comment is greater than can be reasonably accommodated during the scheduled open public hearing session, ONC will take written comments after the meeting until close of business on that day.

Persons attending advisory committee meetings are advised that the agency is not responsible for providing access to electrical outlets.

ONC welcomes the attendance of the public at its advisory committee meetings. Web registration is highly recommended and is available at http://www.blsmeetings.net/consumerchoicetechnologyhearing. Seating is limited at the location, and ONC will make every effort to accommodate persons with physical disabilities or special needs. If you require special accommodations due to a disability, please contact Judy Sparrow at least seven (7) days in advance of the meeting.

ONC is committed to the orderly conduct of its advisory committee meetings. Please visit our Web site at http://healthit.hhs.gov for procedures on public conduct during advisory committee meetings.

Notice of this meeting is given under the Federal Advisory Committee Act (Pub. L. 92-463, 5 U.S.C., App. 2).

Dated: June 9, 2010.
Judith Sparrow,
Office of Programs and Policy, Office of the National Coordinator for Health Information Technology.

[FR Doc. 2010-14395 Filed 6-14-10; 8:45 am]

BILLING CODE 4150-45-P